DEPARTMENT OF HEALTH AND HUMAN SERVICES

Health Resources and Services Administration

Notice of Cooperative Agreements to Develop, Implement and Evaluate Safe Practices at the Patient Care Delivery Level Through Collaborative, Interdisciplinary Education To Prepare Physicians and Advanced Practice Nurses

The Health Resources and Services Administration (HRSA) announces that applications will be accepted for Cooperative Agreements for fiscal year (FY) 2001 to Develop, Implement and Evaluate Safe Practices at the Patient Care Delivery Level through Collaborative, Interdisciplinary Education to Prepare Physicians and Advanced Practice Nurses.

The purpose of these Cooperative Agreements is to improve patient safety in hospitals and in communities through collaborative, interdisciplinary activities focusing on the planning, development, and implementation of patient safety curricula/activities, including simulations and informatics. These Cooperative Agreements build on the recommendations of the Institute of Medicine (IOM), the reports by the Quality Interagency Coordinating Task Force (QuiC), and a report by the National Advisory Council on Nurse Education and Practice (NACNEP) and the Council on Graduate Medical Education (COGME). The Councils are charged with advising and reporting to the Secretary of Health and Human Services (HHS) and the Congress on workforce, education, and practice improvement policies.

The purpose of these Cooperative Agreements is to support the development of educational activities that will focus on interdisciplinary education of physicians and advanced practice nurses to promote patient safety and prevent errors in health care delivery.

Authorizing Legislation

These Cooperative Agreements are solicited under the following authorities of titles VII and VIII of the Public Health Service (PHS) Act: (1) Section 747 as amended, which authorizes grants for training of physicians who plan to teach in training programs for primary care medicine (family medicine, general internal medicine, general pediatrics, and/or geriatrics); and (2) section 811, as amended, which authorizes grants to strengthen programs that enhance advanced nurse education and practice.

The Federal role in the conduct of these Cooperative Agreements is substantial and will be maintained by the Bureau of Health Professions (BHPr) staff through technical assistance and guidance to the awardees considerably beyond the normal stewardship responsibilities in the administration of grant awards. Such aspects regarding these Cooperative Agreements include:

(a) Consultation regarding contracts and agreements developed during the implementation of the program;

(b) Participation in the development of an evaluation plan for the project at its inception and to all phases of the program.

(c) Assistance in the identification of Federal and other organizations with whom collaboration is essential in order to further each Cooperative Agreement's mission and to develop specific strategies to support the work of these related activities; and

(d) Authorization of the awardees to progress from the development of the project curriculum/activity to the implementation phase.

The BHPr's Division of Medicine and Dentistry and the Division of Nursing will manage each Cooperative Agreement through a two-member team with one representative from each division.

The successful applicants will be included in the overall program activities of the Department of Health and Human Services (HHS) in patient safety and will participate in the programs and support services that will be offered by the Patient Safety Research Coordinating Center supported under a contract from the Agency for Healthcare Research and Quality (AHRQ). The Cooperative Agreements are part of an overall HHS funding effort to improve patient safety research, demonstration and education through a series of RFAs and Cooperative Agreements (related RFAs are listed at www.ahrq.gov, particularly the AHRQ Patient Safety Research Dissemination and Education RFA that was published on April 23, 2001).

Availability of Funds

Up to $400,000 will be available in FY 2001 to fund 3 or 4 awards. It is expected that the awards will be made on or before September 30, 2001. Funding will be made available for 12 months with a 3-year project period. Support beyond the first year of the project period will be based on the achievement of satisfactory progress and the availability of funds.

Background

In September 2000, shortly after IOM published its widely discussed report: “To Err is Human: Building a Safer Health System” (Kohn, Corrigan and Donaldson, National Academy Press, Washington, DC, 2000), COGME and NACNEP jointly focused on nurse-physician collaboration in a report entitled, “Collaborative Education Models to Ensure Patient Safety.” COGME-NACNEP joint recommendations stressed the need for interdisciplinary education methods to improve patient safety and the need for reforms in the education of physicians and nurses and in the delivery of health care.

Applications for these Cooperative Agreements should address the following elements:Interdisciplinary collaboration to improve patient safety should be characterized by:

(1) Teaching of problem-based content to prepare physicians and advanced practice nurses in clinical settings, linking usual performance evaluation and content evaluation to collaboration between medicine and nursing and improved patient safety;

(2) Improving systems to enhance patient safety educational activities, including interdisciplinary training simulations using teamwork, conflict resolution, or practical informatics (application of computerized systems) to promote patient safety;

(3) Developing specialty initiatives in doctoral programs to prepare teachers of medicine and nursing to work collaboratively using interdisciplinary educational methods; and

(4) Establishing programs or activities to identify and eliminate barriers that prevent faculty from participating in interdisciplinary practice and educational programs.

These Cooperative Agreements will support the planning, development, and implementation of interdisciplinary training projects to improve patient safety through collaborative activities specifically directed toward enhancing patient safety. Recipients of this training, working in interdisciplinary teams, could become models of best practices for patient safety at the patient care delivery level throughout the awardee's region. The ultimate goal of this program is to bridge the separate practice cultures of medicine and nursing by expanding the numbers of professionals in both disciplines who are trained to work together in teams to improve patient care systems and prevent errors while delivering patient care in hospitals and/or in communities.

Eligible Applicants

Eligible applicants are accredited schools of medicine and osteopathic medicine and schools of nursing, academic health centers, public and nonprofit private hospitals, and other public or private nonprofit entities which provide educational programs for undergraduate, graduate, or graduate medical and nursing education.

Applicants should have a demonstrable track record in: (1) The design and implementation of training or educational programs for physicians and advanced practice nurses;(2) experience in identifying and reducing patient error and/or enhancing patient safety at the care delivery level; and (3) the capacity to provide regional collaborative, interdisciplinary training.

Funding Preference

A funding preference is defined as the funding of a specific category or group of approved applications ahead of other categories or groups of applications. The following preferences are available under these Cooperative Agreements:

As provided in section 791(a) of the PHS Act, preference will be given to any qualified applicant that: (a) Has a high rate for placing graduates in practice settings having the principal focus of serving residents of medically underserved communities or (b) during the 2-year period preceding the fiscal year for which such an award is sought, has achieved a significant increase in the rate of placing graduates in such settings.

Definition of High Rate: At least 20 percent of graduates from academic years 1998, 1999, and 2000 devote at least 50 percent of their time working in clinical practice in medically underserved community (MUC) settings.

Definition of Significant Increase: During the past two years (1999 and 2000), the rate of placing graduates in MUC settings has increased at least 50 percent (with a minimum of 2 graduates) and at least 15 percent from the last year are working in MUC settings.

Established clinical sites identified under the “medically underserved community” definition are used as proxies for rural and underserved populations.

The term “medically underserved community (MUC)” means an urban or rural area or population that:

(a) Is eligible for designation under section 332 as a Health Professional Shortage Area (HPSA);

(b) Is eligible to be served by a Migrant Health Center under section 330 of the PHS Act, a Community Health Center under section 330 of the Act, a grantee under section 330 of the Act (relating to homeless individuals), or a grantee under section 330 of the Act (relating to residents of public housing);

(c) Is eligible for certification under section 1861(aa)(2) of the Social Security Act (relating to rural health clinics); or

(d) Is designated by a State Governor (in consultation with the medical community) as a shortage area of MUC. (Section 799B)(6) of the PHS Act.)

In reference to section 332 (HPSA) listed above, the following instructions apply:

(a) To determine if any applicant fits the standards for eligibility when they are not so designated, the applicant must demonstrate that an application has been submitted for such designation and include proof of acceptance of that application from the designating authority.

(b) The MUC preference will not be applied without proof of approval of that application.

For new programs (those having graduated three or fewer classes), applicant proposals will be evaluated by the criteria in the Act used to define a “new program” and a preference will be given to those new programs that meet at least four of the following seven criteria:

(1) The mission statement of the program identifies a specific purpose of the program as being the preparation of health professions to serve underserved populations.

(2) The curriculum of the program includes content which will help to prepare practitioners to serve underserved populations.

(3) Substantial clinical training experience is required under the program in MUCs.

(4) A minimum of 20 percent of the clinical faculty of the program spend at least 50 percent of their time providing or supervising care in MUCs.

(5) The entire program, or a substantial portion of the program, is physically located in an MUC.

(6) Student assistance, which is linked to service in MUCs following graduation, is available to the students in the program.

(7) The program provides a placement mechanism for deploying graduates to MUCs.

As provided in section 805 of the PHS Act, a funding preference will be applied to approved applications that will substantially benefit rural or underserved populations, OR help meet public health nursing needs in State or local health departments.

These statutory general preferences will only be applied to applications that rank above the 20th percentile of applications recommended for approval by the peer review group.

Special Consideration

A special consideration is the enhancement of priority scores by individual merit reviewers of approved applications which address special areas of concern.

Section 747(c)(3) provides for a special consideration to be given to projects that prepare practitioners to care for underserved populations and other high risk groups such as the elderly, individuals with HIV/AIDS, substance abusers, homeless, and victims of domestic violence.

Section 811(f)(3) provides for a special consideration to eligible entities that agree to expend the award to train advanced education nurses who will practice in HPSAs designated under section 332.

Review Criteria

The specific review criteria used to review and rank applications are included in the application guidance that will be provided to each potential applicant. Applicants should pay strict attention to addressing these criteria, as they are the basis upon which applications will be judged by the reviewers.

The following generic review criteria are also applicable to these Cooperative Agreements:

(a) That the estimated cost to the Government of the project is reasonable considering the level and complexity of activity and the anticipated results.

(b) That project personnel are well qualified by training and/or experience for the support sought, and the applicant organization or the organization to provide training has adequate facilities and manpower.

(c) That insofar as practical, the proposed activities, if well executed, are capable of attaining project objectives.

(d) That the project objectives are capable of achieving the specific program objectives defined in the program announcement and the proposed results are measurable.

(e) That the method for evaluating proposed results includes criteria for determining the extent to which the program has achieved its stated objectives and the extent to which the accomplishment of objectives can be attributed to the program.

(f) That, insofar as practical, the proposed activities, when accomplished, are replicable, national in scope and include plans for broad dissemination.

Letters of Intent and Deadline Date

Applicants are encouraged to submit letters of intent to apply for this request for applications for these Cooperative Agreements. The letter is requested to assist staff in planning for the review based on the anticipated number of applications. The letter of intent is due by July 11, 2001. Simultaneously mail or e-mail one copy of the letter to each of the following representatives from the Division of Medicine and Dentistry (DMD) and the Division of Nursing (DN) within the Bureau of Health Professions (BHPr):

Dr. Richard Diamond, Medical Officer, Policy and Special Projects Branch, Division of Medicine and Dentistry, Bureau of Health Professions, HRSA, Room 9A-27, Parklawn Building, 5600 Fishers Lane, Rockville, MD 20857; or e-mail at rdiamond@hrsa.gov. Dr. Diamond's telephone number is 301-443-1082.

Dr. Madeleine Hess, Deputy Branch Chief, Nursing Special Initiatives and Program Systems Branch, Division of Nursing, Bureau of Health Professions, HRSA, Room 9-35, Parklawn Building, 5600 Fishers Lane, Rockville, MD 20857; or e-mail at mhess@hrsa.gov. Dr. Hess' telephone number is 301-443-6336.

Application Requests, Dates and Address

Federal Register notices and the application form and guidance for these Cooperative Agreements are available on the HRSA website address at http://bhpr.hrsa.gov/grans2001/. Applicants may also request a hard copy of these materials from the HRSA Grants Application Center (GAC) at 1815 North Fort Myer Drive, Suite 300, Arlington, VA 22209; telephone number 1-877-477-2123. The GAC e-mail address is: hrsagac@hrsa.gov.

In order to be considered for competition, applications for these Cooperative Agreements must be received by mail or delivered to the GAC no later than July 27, 2001. Geographic area and uniform national and/or regional distribution will be considered in final funding decisions.

Completed applications must be submitted to the GAC at the above address. Applications received after the deadline date or sent to any address other than the Arlington, Virginia address above will be returned to the applicant and not reviewed.

National Health Objectives for the Year 2010

The PHS urges applicants to submit their work plans that address specific objectives of Healthy People 2010, which potential applicants may obtain through the Superintendent of Documents, Government Printing Office, Washington, DC 20402-9325 (telephone: (202) 783-3238). Particular attention should focus on Healthy People 2010 Workforce Objectives, such as Objectives 1-8 (achieving minority representation in the health professions) and 23-8 (incorporating specific competencies into the public health workforce).

Smoke-Free Workplace

The PHS strongly encourages all grant recipients to provide a smoke-free workplace; to promote the non-use of all tobacco products; and to promote Pub. L. 103-227, the Pro-Children Act of 1994, which prohibits smoking in certain facilities that receive Federal funds in which education library, day care, health care, and early childhood development services are provided to children.

Additional Information

Questions concerning programmatic aspects of these Cooperative Agreements may be directed to the same representatives for the Division of Medicine and Dentistry and the Division of Nursing listed above in the Letters of Intent section of this notice.

Paperwork Reduction Act

The standard application form HRSA-6025-1, the HRSA Competing Training Grant Application, has been approved by the Office of Management and Budget (OMB) under the Paperwork Reduction Act. The OMB clearance number is 0915-0060. If the methods for developing the proposed comprehensive outcome evaluation of all efforts delivered through these Cooperative Agreements (as described in the Background section of this notice) falls under the purview of the Paperwork Reduction Act, awardees will assist HRSA in seeking OMB clearance for proposed data collection activities.

This program is not subject to the provisions of Executive Order 12372, Intergovernmental Review of Federal Programs (as implemented through 45 CFR part 100). This program is also not subject to the Public Health Systems Reporting Requirements.

Dated: June 19, 2001.
Elizabeth M. Duke,
Acting Administrator.

[FR Doc. 01-16024 Filed 6-26-01; 8:45 am]

BILLING CODE 4160-15-P